POSTAL SERVICE

39 CFR Part 111

Alternative Addressing Formats

AGENCY: Postal Service.

ACTION: Proposed rule.

SUMMARY: This proposed rule would revise Domestic Mail Manual (DMM) A040 to standardize when alternative addressing formats may be used and to clarify the differences between the various formats. In addition, postage payment options would be specified, prohibiting the use of uncanceled stamps on mail with simplified addresses, to enable efficient handling and processing of this mail. Corresponding sections of DMM F010 also would be revised.

DATES: Comments must be received on or before June 30, 2003.

ADDRESSES: Mail or deliver written comments to the Manager, Mailing Standards, 1735 N Lynn Street, Suite 3025, Arlington VA 22209-6038. Copies of all written comments will be available for inspection and photocopying between 9 a.m. and 4 p.m., Monday through Friday, at Postal Service Headquarters Library, 475 L'Enfant Plaza SW., 11th Floor North, Washington DC. Comments may be submitted also via fax to (703) 292-4058, ATTN: Bill Chatfield.

FOR FURTHER INFORMATION CONTACT: Bill Chatfield at (703) 292-3964.

SUPPLEMENTARY INFORMATION: Three types of alternative addressing formats may be used in lieu of the typical addressing format (i.e., addressee name, address, city, state, and ZIP Code). These alternative addressing formats include a simplified address format (such as “Postal Customer”) with no actual delivery address, an occupant address format which provides for a generic customer reference in combination with a specific delivery address, and an exceptional address format which has all the traditional addressing elements but includes a current resident alternative to provide for delivery to the address even if the specific addressee is no longer at the address.

Current restrictions on the type of mail for which these formats may be used are more stringent for the exceptional address format than for the simplified or occupant address formats, although the same complications (such as accountable mail being addressed to a generic addressee) would ensue for mail addressed using any of the three alternative address formats.

The current summary introduction does not adequately distinguish between simplified and occupant formatting, thus clarifications would be added.

A new section (to be numbered A040.1.0) would be added to standardize the types of mail that may be mailed with any alternative addressing format. New A040.1.2 extends the current prohibitions for combining exceptional address mail with certain categories of mail and services to all types of alternatively addressed mail. Since each type of alternative address provides for a nonspecific addressee name, the same restrictions currently placed only on mail with the exceptional address format would be extended to any mail with an alternative address format.

New section A040.1.3 explains treatment of all undeliverable mail (previously written only under A040.3.0 for exceptional address format) having alternative addresses and provides for similar treatment of mail with either simplified or occupant addresses. This section replaces old section A040.3.4. A qualifying phrase (“related solely to the address”) is added after “undeliverable for another reason,” since there are reasons indicated in Exhibit F010.4.1 that have to do with the name, such as “Attempted—Not Known” and “Deceased,” which are not valid reasons to return this type of mail. New section A040.1.3 expands the description of treatment of undeliverable mail to include mail with any alternative address format. This proposal would eliminate the last sentence in current section A040.3.4, “The mail is not returned or forwarded.” This sentence is redundant following the sentence declaring: “Undeliverable mail is handled in accordance with F010.” Also, the statement in its current placement is ambiguous as to whether it refers to all undeliverable mail with exceptional address formats or only Periodicals publications. Periodicals publications with exceptional addresses would not be returned since return is provided only when endorsed “Address Service Requested,” and Periodicals publications would not be returned if bearing any alternative address format once the prohibition on using ancillary service endorsements is extended to all formats.

Existing sections would be renumbered A040.2.0 through 5.0 to replace the current A040.1.0 through 4.0.

Under new A040.2.1, concerning “simplified address” mail, the word “complete” replaces “general” to better describe the requirement for complete distribution to all customers on a rural route, highway contract route, or all post office boxholders at a particular office. A qualifying phrase is added after mentioning the alternative wording “Rural Route Boxholder” to avoid any implication that this wording is acceptable on mail to post office boxholders when a mailing is for both rural routes and post office boxholders. Optional use of the word “Local” is also clarified.

Under new section A040.2.4, regarding postage payment, the rewording prohibits the use of uncanceled stamps on simplified address mail. Since most local offices do not have the capability to cancel large quantities of such mail, this mail would be sent to the nearest processing facility. The probability would increase that this mail would be unidentified as to intended office of delivery after cancellation. Cancellation also would require taking apart the packaging and preparation required in A040.1.3 (new A040.2.3), which would be inefficient.

DMM F010.4.0 and 5.0 would amend the limitations on using mail with any alternative address formats as noted in new A040.1.2.

List of Subjects in 39 CFR Part 111

Administrative practice and procedure, Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Amend the Domestic Mail Manual as follows:

A Addressing

A000 Basic Addressing

* * * * *

A040 Alternative Addressing Formats

Summary

[Revise text to read as follows:]

A040 describes the conditions for use and treatment of mail bearing alternative addressing formats: the simplified address format (i.e., “Postal Customer” in lieu of specific name and address), the occupant address format (i.e., “Occupant” in lieu of specific name, followed by specific address), the exceptional address format (i.e. “Jane Doe or Current Occupant”, followed by specific address), standards for their use, and relevant mail preparation. It also covers the addressing and delivery of mail sent under the franking privilege for members of Congress.

[Renumber 1.0 through 4.0 as 2.0 through 5.0. Add new 1.0 to read as follows:]

1.0 USE AND TREATMENT—GENERAL

1.1 Use

Alternative addressing formats may be used as described in 2.0 through 4.0.

1.1 Prohibited Use

Alternative addressing formats are not permitted on:

a. Express Mail.

b. Mail with any special service under S900.

c. Mail with any ancillary service endorsement under F010.

d. Periodicals intended to count as subscriber or requester copies to meet the applicable circulation standards.

e. Mail addressed to an overseas post office under A010.6.

1.3 Treatment

Mail with occupant or exceptional address format is delivered as addressed and is not forwarded. Such mail is treated as undeliverable only when the address is incorrect or incomplete or when the mail cannot be delivered for another reason related solely to the address (e.g., a vacant building), as shown in Exhibit F010.4.1. Periodicals publishers are notified only when mailpieces with occupant or exceptional address formats are undeliverable for address-related reasons. Mail with a simplified address format is delivered until all deliveries on a route or to post office boxholders have been completed. Undeliverable mail with any alternative address format is disposed of as waste under F010.8.1.

2.0 SIMPLIFIED ADDRESS

[Revise text of renumbered 2.1 to read as follows:]

2.1 Use—Rural and Highway Contract Routes, PO Boxholders

The simplified address format (i.e., “Postal Customer”) may be used on mail only when complete distribution (except as provided for congressional mail under A040.5.0) is made to each family or boxholder on a rural or highway contract route at any post office and/or to all post office boxholders at a post office without city carrier service. A more specific address such as “Rural Route Boxholder” for mail intended to all boxholders on a rural route, followed by the name of the post office and state, may be used. The word “Local,” instead of the post office and state names, is optional.

[Revise text of renumbered 2.2 to read as follows:]

2.2 Use—City Routes, P.O. Boxholders

When distribution is to be made to each active possible delivery on city carrier routes or to each post office boxholder at a post office with city carrier service, the addressee's name, mailing address, city, state, and ZIP Code may be omitted from the address only on pieces mailed as official matter by agencies of the federal government (including mail with the congressional frank prepared under A040.5.0), any state, county, or municipal government, and the governments of the District of Columbia, the Commonwealth of Puerto Rico, and any U.S. territory or possession listed in G010. The requirement for distribution to each stop or post office boxholder may be modified for congressional mail under conditions in A040.5.0. The following also applies:

* * * * *

[Revise text of renumbered 2.4 to read as follows:]

2.4 Postage

Postage must be paid with permit imprints, meter stamps, precanceled stamps, or other authorized methods not requiring cancellation, according to the standards for the class of mail.

[Delete renumbered 2.6.]

* * * * *

[Delete renumbered 3.2.]

* * * * *

[Delete renumbered 4.2.]

* * * * *

[Delete renumbered 4.4.]

* * * * *

[Revise redesignates 5.0 to read as follows:]

5.0 CONGRESSIONAL FRANK

* * * * *

5.2 Alternative Addressing

Mail sent under the franking privilege of a member of, or member-elect to, the Congress, or a delegate, delegate-elect, resident commissioner, or resident commissioner-elect to the House of Representatives may be addressed under the alternative addressing formats in 2.0 through 4.0 for delivery to customers within the congressional district, state, or area that he or she was elected to represent. A member of the House of Representatives may not, under the franking privilege, use the alternative addressing formats to send mail outside the congressional district that elected that member. Any representative elected at large may send franked mail with the simplified address format to postal customers within the entire state that elected the member.

* * * * *

5.4 Delivery

Mail with a simplified addressing format is delivered within the district, state, or area to any of the following:

a. Each boxholder or family on a rural or highway contract route.

b. Each post office boxholder.

c. Each active possible delivery on city carrier routes.

d. For deliveries under 5.4a and 5.4c, partial distribution of simplified address mailings is permitted only when the carrier's delivery territory crosses congressional district boundaries. In these cases, complete distribution is made to the portion of the route within a single congressional district.

* * * * *

F Forwarding and Related Services

F000 Basic Services

F010 Basic Information

* * * * *

4.0 BASIC TREATMENT

* * * * *

Exhibit 4.1 USPS Endorsements for Mail Undeliverable as Addressed

[Revise the footnote at the bottom of the exhibit to read as follows:]

*Alternative address formats may not be used on: Express Mail, mail with any special service, mail sent with any ancillary service endorsement, or mail sent to any overseas post office. When an alternative address format is used on Periodicals, the publisher is notified of nondelivery only for those reasons marked with an asterisk (*).

* * * * *

5.0 CLASS TREATMENT FOR ANCILLARY SERVICES

5.1 First-Class Mail and Priority Mail

* * * * *

[Revise item b to read as follows:]

b. Alternative address formats under A040 may not be used on mail with any ancillary service endorsement or mail with any special service. Forwarding service is not provided for such mail. Undeliverable First-Class Mail with any alternative address format is returned with the reason for nondelivery attached only if the address is incorrect or incomplete or the mail is undeliverable for another reason, related solely to the address, as shown in Exhibit 4.1.

* * * * *

5.2 Periodicals

[Revise item b to read as follows:]

b. Publications with an alternative address format under A040 are delivered to the address when possible. Forwarding service is not provided for such mail. A notice with the reason for the nondelivery of a publication is sent to the publisher only if the copy cannot be delivered to the current address.

* * * * *

Stanley F. Mires,
Chief Counsel, Legislative.

[FR Doc. 03-13473 Filed 5-29-03; 8:45 am]

BILLING CODE 7710-12-P